CONSUMER PRODUCT SAFETY COMMISSION

Sunshine Act Meetings

Federal Register Citation of Previous Announcement: Vol. 75, No. 219, Monday, November 15, 2010, page 69640.

Announced Time and Date of Meeting: 9 a.m.-12 Noon, Wednesday November 17, 2010.

Changes to Meeting: Meeting Rescheduled to 9 a.m.-12 Noon, Wednesday November 24, 2010.

For a recorded message containing the latest agenda information, call (301) 504-7948.

Contact Person for Additional Information: Todd A. Stevenson, Office of the Secretary, 4330 East West Highway, Bethesda, MD 20814 (301) 504-7923.

Dated: November 17, 2010.
Todd A. Stevenson,
Secretary.

[FR Doc. 2010-29597 Filed 11-19-10; 11:15 am]

BILLING CODE 6355-01-P